DEPARTMENT OF TRANSPORTATION

Federal Highway Administration

Notice of Funding Opportunity for the Department of Transportation's Competitive Highway Bridge Program for Fiscal Year 2018

AGENCY: Federal Highway Administration (FHWA), U.S. Department of Transportation (DOT).

ACTION: Notice of funding opportunity.

SUMMARY: This notice announces a funding opportunity and requests grant applications for FHWA's Competitive Highway Bridge Program. Division L of the Consolidated Appropriations Act, 2018, appropriated $225 million to be awarded by DOT for a competitive highway bridge program. Eligible applicants are States that have a population density of less than 100 individuals per square mile. The funds must be used for highway bridge replacement and rehabilitation projects on public roads that demonstrate cost savings by bundling multiple highway bridge projects. The FHWA will distribute these funds as described in this notice on a competitive basis in a manner consistent with the selection criteria.

DATES: This is a one-time opportunity for funding. The deadline for consideration is December 4, 2018 at 11:59 p.m.

ADDRESSES: Applications must be submitted through Grants.gov at https://www.grants.gov/.

FOR FURTHER INFORMATION CONTACT: The Competitive Highway Bridge Program staff via email at CHBPgrant@dot.gov.

Douglas A. Blades, Office of Bridges & Structures, FHWA, Office of Infrastructure, 1200 New Jersey Avenue SE, Room E75-3203, Washington, DC 20590, telephone: (202) 366-4622 or email: Douglas.Blades@dot.gov; Semme Yilma, Office of Bridges & Structures, FHWA, Office of Infrastructure, 1200 New Jersey Avenue SE, Room E75-3203, Washington, DC 20590, telephone: (202) 366-6712 or email: Semme.Yilma@dot.gov.

For legal questions, please contact Ms. Alla C. Shaw, Office of the Chief Counsel, at (202) 366-1042; by email at Alla.Shaw@dot.gov; or by mail at Federal Highway Administration, 1200 New Jersey Avenue SE, Washington, DC 20590.

Office hours for FHWA are from 8:30 a.m. to 4:00 p.m. EST, Monday through Friday, except Federal holidays.

In addition, FHWA will post information about the Competitive Highway Bridge Program on its website at https://www.fhwa.dot.gov/bridge/chbp.cfm.

SUPPLEMENTARY INFORMATION: Each section of this notice contains information and instructions relevant to the application process for program grants. The applicant should read this notice in its entirety to submit eligible and competitive applications.

Table of Contents

A. Program Description

B. Federal Award Information

1. Amount Available

2. Availability of Funds

C. Eligibility Information

1. Eligible Applicants

2. Cost Sharing and Matching

3. Other

D. Application and Submission Information

1. Address To Request Application

2. Content and Form of Application Submission

3. Selection Criteria

4. Assessment of Project Risks

5. Submission Dates

6. Intergovernmental Review

E. Application Review Information

F. Federal Award Administration Information

G. Federal Awarding Agency Contact(s)

H. Other Information

I. Program Description

Division L of the Consolidated Appropriations Act, 2018 (Pub. L. 115-141, March 23, 2018) (“FY 2018 Appropriations Act”), appropriated $225 million to be awarded by DOT for a Competitive Highway Bridge Program. Eligible applicants are States that have a population density of less than 100 individuals per square mile. The funds must be used for highway bridge replacement and rehabilitation projects on any public roads that demonstrate cost savings by bundling multiple highway bridge projects. The Competitive Highway Bridge Program provides an opportunity to address significant challenges across the Nation for improving bridges that serve America.

II. Federal Award Information

A. Amount Available—The FY 2018 Appropriations Act appropriated the Competitive Highway Bridge Program as a grant program at $225 million for fiscal year (FY) 2018.

B. Availability of Funds—The funds provided for this program under the FY 2018 Appropriations Act are available for obligation through September 30, 2021, and expire after September 30, 2026.

III. Eligibility Information

To be selected for a Competitive Highway Bridge Program grant, an applicant must be an Eligible Applicant and the projects must be Eligible Projects.

A. Eligible Applicants. Eligible applicants for Competitive Highway Bridge Program grants are State departments of transportation (State DOTs) from States that have a population density of less than 100 individuals per square mile based on the 2010 decennial census. The calculation of individuals per square mile is based on the land area, which is consistent with the practice of the U.S. Census Bureau. Per this requirement, eligible applicants are the State DOTs in Alabama, Alaska, Arizona, Arkansas, Colorado, Idaho, Iowa, Kansas, Maine, Minnesota, Mississippi, Missouri, Montana, Nebraska, Nevada, New Mexico, North Dakota, Oklahoma, Oregon, South Dakota, Texas, Utah, Vermont, West Virginia, and Wyoming.

B. Cost Sharing and Matching.

1. The standard Federal share of the cost of the project is up to 80 percent. For States on the sliding scale, the Federal share of the cost of the project is up to 95 percent in accordance with 23 U.S.C. 120(b). States on the sliding scale can find the maximum Federal share for a project in FHWA Notice N 4540.12 (Sliding Scale Rates In Public Land States—Rates Effective March 17, 1992). The notice is located at: (https://www.fhwa.dot.gov/legsregs/directives/notices/n4540-12.cfm).

2. The standard non-Federal share is not less than 20 percent of the cost of the project. For States on the sliding scale, the non-Federal share is not less than 5 percent of the cost of the project in accordance with 23 U.S.C. 120(b). Non-Federal sources of income include State funds originating from programs funded by State revenue or local revenue funding programs, or private funds. The FHWA will not consider previously incurred costs or previously expended or encumbered funds towards the matching requirements for any project.

C. Other.

1. Eligible Projects. Eligible projects for a Competitive Highway Bridge Program grant are projects that meet all of the following eligibility criteria:

a. That demonstrate cost savings by bundling at least two highway bridge projects into a single contract. Bridge bundling is defined in 23 U.S.C. 144(j) as two or more similar bridge projects that are eligible projects under Sections 119 or 133; included as a bundled project in a transportation improvement program (TIP) under Section 134(j) or a statewide transportation improvement program (STIP) under Section 135, as applicable; and awarded to a single contractor or consultant pursuant to a contract for engineering and design or construction between the contractor and an eligible entity; and

b. That are for replacement and/or rehabilitation of highway bridges and are located on public roads. “Public road” is defined in 23 U.S.C. 101(a)(22) as any road or street under the jurisdiction of and maintained by a public authority and open to public travel. “Highway” is defined in 23 U.S.C. 101(a)(11) as a road, street, and parkway; a right-of-way, bridge, railroad-highway crossing, tunnel, drainage structure, including public roads on dams, sign, guardrail, and protective structure, in connection with a highway; and a portion of any interstate or international bridge or tunnel and the approaches thereto, the cost of which is assumed by a State transportation department, including such facilities as may be required by the United States Customs and Immigration Services in connection with the operation of an international bridge or tunnel. “Bridge” is defined in 23 CFR 650.305 as a structure including supports erected over a depression or an obstruction, such as water, highway, or railway, and having a track or passageway for carrying traffic or other moving loads, and having an opening measuring along the center of the roadway of more than 20 feet between undercopings of abutments or spring lines of arches, or extreme ends of openings for multiple boxes; it may also include multiple pipe culverts, where the clear distance between openings is less than half of the smaller contiguous opening. “Replacement” is defined in 23 CFR 650.405 as total replacement of a bridge with a new facility constructed in the same general traffic corridor. A nominal amount of approach work, sufficient to connect the new facility to the existing roadway or to return the gradeline to an attainable touchdown point in accordance with good design practice is also eligible. The replacement structure must meet the current geometric, construction and structural standards required for the types and volume of projected traffic on the facility over its design life. “Rehabilitation” is defined in 23 CFR 650.405 as the project requirements necessary to perform the major work required to restore the structural integrity of a bridge as well as the work necessary to correct major safety defects except as noted in 23 CFR 650.405(c) under ineligible work. Examples of bridge rehabilitation include, but are not limited to: Partial or complete deck replacement, superstructure replacement, and substructure/culvert strengthening or partial/full replacement. Incidental widening is often associated with some of these activities.

2. Application Limit. Each eligible applicant may submit no more than three applications.

IV. Application and Submission Information

A. Address—Applications must be submitted to Grants.gov at http://www.grants.gov.

B. Content and Form of Application Submission—The application must include the following:

1. Standard Form 424 (Application for Federal Assistance);

2. Standard Form 424C (Budget Information for Construction Programs);

3. A cover page, including the following chart:

Project Name:
State Priority Ranking (maximum of 3) | # of #
Previously Incurred Project Eligible Costs | $
Future Eligible Project Costs | $
Total Project Cost | $
Program Grant Request Amount | $
Federal (DOT) Funding including Program Funds Requested | $

4. A project narrative—The project narrative should include the information necessary for FHWA to determine that the project satisfies the eligibility criteria described in Section C above and to assess how the application addresses the selection criteria specified in Section E. The FHWA recommends that the project narrative adhere to the following basic guidelines to clearly address the program requirements and make critical information readily apparent:

a. Project Description—The first section of the application should provide a concise description of the project, the transportation challenges it is expected to address, and how it will address those challenges. The description should include a list of the bridges in the bundling project and the type of work planned for each bridge. This list should include relevant National Bridge Inventory data, including the structure number, condition ratings, load posting information, functional classification, current average daily traffic, current average daily truck traffic, and other relevant data to support the need for the type of work planned.

b. Project Location—This section of the application should provide a detailed description of the location of the proposed project and geospatial data for the project, as well as a map of the project's location and its connections to existing transportation infrastructure.

c. Project Parties—This section of the application should provide information about the entities involved in, and their respective roles in, supporting the project.

d. Grant Funds, Sources, and Uses of Project Funds—This section of the application should describe the project's budget. At a minimum, it should include:

i. Project costs.

ii. Funding—Document all funds to be used for eligible construction costs and the source and amount of those funds, including past or pending Federal funding requests for this project. Include the size, nature, and source of the required match for those funds, if applicable. Demonstrate that the requested Competitive Highway Bridge Program funds do not exceed the appropriate Federal share of future eligible project costs. For non-Federal funds to be used for eligible project costs, documentation of the funding commitments should be referenced and included with the application.

iii. Budget—Provide a detailed project budget showing how the Competitive Highway Bridge Program funds will be spent. The budget should estimate—by dollar amount and percentage of cost—the cost of construction work for each project component.

e. Include a table of contents, maps, and graphics, as appropriate, to make the project narrative and supporting information easier to review.

f. The FHWA recommends that the project narrative be prepared with standard formatting preferences (i.e., a single-spaced document, using a standard 12-point font, such as Times New Roman, with 1-inch margins).

g. Provide website links to supporting documentation rather than copies of these supporting materials. If supporting documents are submitted, clearly identify the relevant portion of the project narrative that each document supports.

h. The FHWA recommends using appropriately descriptive names (e.g., “Project Narrative,” “Maps,” “Memoranda of Understanding and Letters of Support,” etc.) for all attachments.

C. Selection Criteria—This section of the application should demonstrate how the project aligns with the selection criteria described below and in Section E of this notice. The FHWA encourages each applicant to either address each criterion or expressly state that the project does not address the criterion. Applicants are not required to follow a specific format, but the outline suggested below, which addresses each selection criterion separately, promotes a clear discussion that assists project evaluators. The applicant should address each selection criterion in appropriate sections. Guidance describing how the FHWA will evaluate a project against the selection criteria is in Section E of this notice. To the extent practicable, please provide data and evidence of project criteria in a form that is verifiable or publicly available. The FHWA may ask any applicant to supplement data in its application, but expects applications to be complete upon submission.

1. Selection Criteria.

a. Innovation.

This section of the application should describe any innovative technologies, strategies, or financing approaches used to improve bridge conditions, restore bridge capacity and/or add bridge capacity, and expedite project delivery, and the anticipated benefits of using those strategies, including those corresponding to three key categories: (i) Innovative Technologies, (ii) Innovative Project Delivery, or (iii) Innovative Financing.

i. Innovative Technologies—If an applicant is proposing to adopt innovative bridge design, material or construction technology, or financing approaches the applications should demonstrate the applicant's capacity to implement those innovations, the applicant's understanding of whether the innovations will require extraordinary permitting, approvals, or other procedural actions, and the effects of those innovations on the project delivery timeline.

ii. Innovative Project Delivery—If an applicant plans to use innovative approaches to project delivery, applicants should describe those project delivery methods and how they are expected to improve the efficiency of the project development or expedite project delivery.

iii. Innovative Financing—If an applicant plans to incorporate innovative funding or financing, the applicant should describe the funding or financing approach, including a description of all activities undertaken to pursue private funding or financing for the project and the outcomes of those activities.

b. Support for Economic Vitality.

This section of the application should describe the anticipated outcomes of the project that support economic vitality. The applicant should summarize the conclusions of the project's benefit-cost analysis (described in section D.3.2), including estimates of the project's benefit-cost ratio and net benefits. The applicant should also describe other data-supported benefits that are not included in the benefit-cost analysis. The benefit-cost analysis itself should be provided as an appendix to the project narrative.

c. Life-Cycle Costs and State of Good Repair.

This section of the application should include information that is sufficient for FHWA to evaluate how the project addresses this criterion, including:

i. A description of the condition of the bridges to be replaced or rehabilitated with Competitive Highway Bridge Program grant funds. Applicants should provide technical data about the existing bridge condition—preference will be given to bridges in poor condition or that are load restricted. “Poor condition” is defined in 23 CFR 490.409(b)(3) as having a rating of 4 or less for items 58-Deck, 59-Superstructure, 60-Substructure, or 62-Culvert based on the Recording and Coding Guide for the Structure Inventory and Appraisal of the Nation's Bridges and as reported to the National Bridge Inventory (NBI). Load restricted bridges have a Recording and Coding Guide for the Structure Inventory and Appraisal of the Nation's Bridges item 41=P, E, or D as reported to the NBI.

ii. A description of the anticipated cost-savings of bundling bridge projects. Estimated cost to replace or rehabilitate each bridge as an individual project should be described, along with the total amount of all the projects, and compared with the cost of bundling the bridge projects into one project.

d. Project Readiness.

This section of the application should include information that, when considered with the project budget information presented elsewhere in the application, is sufficient for FHWA to evaluate whether the project is reasonably expected to begin construction before the expiration of the period of availability of Competitive Highway Bridge Program funds, (September 30, 2021) and that all Competitive Highway Bridge Program funds will be expended by September 30, 2026. To assist FHWA's project readiness assessment, the applicant should provide the information requested on project feasibility, project schedule, project approvals, and project risks, each of which is described in greater detail in the following sections.

i. Project Feasibility. This section of the application should demonstrate the feasibility of the project with the status of the project in the engineering and design phases; the basis for the cost estimate presented in the application, including the identification of contingency levels appropriate to its level of design; and any scope, schedule, and budget risk-mitigation measures. Applicants should describe in detail the bridge projects to be bundled and constructed.

ii. Project Schedule. The applicant should include a detailed project schedule that identifies major project milestones. Examples of such milestones include:

I. State and local planning approvals (programming on the STIP);

II. Start and completion of approvals under NEPA and other Federal environmental requirements; and

III. Other approvals including:

1. Permitting (including any required U.S. Coast Guard permits or Floodplain regulatory compliance);

2. Design completion;

3. Approval of plans, specifications, and estimates;

4. Procurement;

5. State and local approvals; and

6. Project partnership and implementation agreements, including agreements with railroads and for construction.

iii. The project schedule should be sufficiently detailed to demonstrate that:

I. All necessary activities will be completed to allow Competitive Highway Bridge Program funds to be obligated sufficiently in advance of the statutory deadline (September 30, 2021) and any unexpected delays will not put the funds at risk of expiring before they are obligated;

II. The project can begin construction quickly upon obligation of Competitive Highway Bridge Program funds, and the grant funds will be spent expeditiously once construction starts, with all Competitive Highway Bridge Program funds expended by September 30, 2026; and

III. All real property and right-of-way acquisition will be completed in a timely manner in accordance with 49 CFR part 24, 23 CFR part 710, and other applicable legal requirements or no acquisition is necessary.

iv. Required Approvals.

I. Environmental Approvals. All activities required under the National Environmental Policy Act of 1969 (NEPA) (42 U.S.C. 4321 et seq.) demonstrate completion through:

1. A record of decision, if the NEPA class of action is an environmental impact statement;

2. A finding of no significant impact, if the NEPA class of action is an environmental assessment; or

3. A determination that the project is a categorical exclusion under the lead agency's NEPA policies.

II. State and local approvals. The applicant should demonstrate the receipt of State and local approvals on which the project depends, such as State and local environmental and planning approvals, and planning approvals and STIP or TIP funding.

2. Benefit-Cost Analysis. This section describes the recommended approach for the completion and submission of a benefit-cost analysis (BCA) as an appendix to the Project Narrative. The results of the analysis should be summarized in the Project Narrative directly, as described in section 3.1.(b).

Detailed guidance for estimating some types of quantitative benefits and costs, together with recommended economic values for converting them to dollar terms and discounting to their present values, is available in the Department's guidance for conducting BCAs for projects seeking funding under its discretionary grant programs (see https://www.transportation.gov/office-policy/transportation-policy/benefit-cost-analysis-guidance).

Applicants should delineate each of their project's expected outcomes in the form of a complete BCA to enable FHWA to evaluate the project's cost-effectiveness by estimating a benefit-cost ratio and calculating the magnitude of net benefits and costs for the project. In support of each project for which an applicant seeks funding, that applicant should submit a BCA that quantifies the expected benefits of each project against a no-build baseline, provides monetary estimates of the benefits' economic value, and compares the properly-discounted present values of these benefits to the project's estimated costs.

Benefits should be estimated for each individual bridge included in the bundle. In some cases, projects within a bundle may be expected to have collective benefits that are larger than the sum of the benefits of the individual projects included in the bundle. In such cases, applicants should clearly explain why this would be the case and provide any supporting analyses to that effect. Costs of the bundled project should be allocated to each individual bridge included in the bundle to the extent possible.

The primary economic benefits from projects eligible for the Competitive Highway Bridge Program are likely to include both reductions in future bridge maintenance costs and reduced user and non-user costs associated with work zones and detours due to weight restriction postings or closures of deteriorated bridges. Applicants may describe other categories of benefits in the BCA that are more difficult to quantify and value in economic terms, such as improving the reliability of travel times or improvements to the existing human and natural environments (such as increased connectivity, improved public health, storm water runoff mitigation, and noise reduction), while also providing numerical estimates of the magnitude and timing of each of these additional impacts wherever possible. Any benefits claimed for the project, both quantified and unquantified, should be clearly tied to the expected outcomes of the project.

The BCA should include the full costs of developing, constructing, operating, and maintaining the proposed project, as well as the expected timing or schedule for costs in each of these categories. The BCA may also consider the present discounted value of any remaining service life of the asset at the end of the analysis period. The costs and benefits that are compared in the BCA should also cover the same project scope.

The BCA should carefully document the assumptions and methodology used to produce the analysis, including a description of the baseline, the sources of data used to project the outcomes of the project, and the values of key input parameters. Applicants should provide all relevant files used for their BCA, including any spreadsheet files and technical memos describing the analysis (whether created in-house or by a contractor). The spreadsheets and technical memos should present the calculations in sufficient detail and transparency to allow the analysis to be reproduced by FHWA evaluators.

3. Assessment of Project Risks and Mitigation Strategies. Project risks, such as procurement delays, environmental uncertainties, increases in real estate acquisition costs, uncommitted non-Federal match, or lack of legislative approval, affect the likelihood of successful project start and completion. The applicant should identify all material risks to the project and the strategies that the applicant and any project partners have undertaken or will undertake in order to mitigate those risks. The applicant should assess the greatest risks to the project and identify how the project parties will mitigate those risks.

2. Unique entity identifier and System for Award Management (SAM)—

1. Each applicant must:

a. Register in SAM before submitting its application;

b. Provide a valid unique entity identifier in its application; and

c. Continue to maintain an active SAM registration with current information at all times during which it has an active Federal award or an application or plan under consideration by a Federal awarding agency. The FHWA may not make a grant to an applicant until the applicant has complied with all applicable unique entity identifier and SAM requirements and, if an applicant has not fully complied with the requirements by the time FHWA is ready to make a grant, FHWA may determine that the applicant is not qualified to receive a grant and use that determination as a basis for making a grant to another applicant.

3. Submission Dates and Timelines—

1. Deadline—Applications will be accepted until 11:59 p.m. on December 4, 2018.

2. To submit an application through Grants.gov, applicants must:

a. Obtain a Data Universal Numbering System (DUNS) number;

b. Register with the SAM at www.SAM.gov;

c. Create a Grants.gov username and password; and

d. Respond to the registration email sent to the applicants E-Business Point of Contact (POC) from Grants.gov and log in at Grants.gov to authorize the applicant as the Authorized Organization Representative (AOR).

3. Please note that there can be more than one AOR for an organization. Applicants are encouraged to submit applications in advance of the application deadline; however, applications will not be evaluated, and awards will not be made, until after the application deadline.

4. Please note the Grants.gov registration process usually takes 2-4 weeks to complete, and FHWA will not consider late applications that are the result of failure to register or comply with Grants.gov applicant requirements in a timely manner. For information and instructions on each of these processes, please see instructions at http://www.grants.gov/web/grants/applicants/applicant-faqs.html. If applicants experience difficulties at any point during the registration or application process, please call the Grants.gov Customer Service Support Hotline at (800) 518-4726, Monday-Friday from 7:00 a.m. to 9:00 p.m. EST.

5. Consideration of Applications—Only applicants who comply with all submission deadlines described in this notice and electronically submit valid, sponsor-approved applications through Grants.gov will be eligible for awards. Applicants are strongly encouraged to make submissions in advance of deadlines.

6. Application Limit—Applications will be limited to three per State DOT.

7. Late Applications—Applications received after the initial deadline will be considered in subsequent awards based on availability of funds, except in the case of unforeseen technical difficulties that are beyond the applicant's control. The FHWA will consider late applications on a case-by-case basis. Applicants are encouraged to submit additional information documenting the technical difficulties experienced, including a screen capture of any error messages received.

4. Intergovernmental Review—The Competitive Highway Bridge Program is not subject to the Intergovernmental Review of Federal Programs.

B. Application Review Information

This section specifies the criteria that FHWA will use to evaluate and award Competitive Highway Bridge Program funds.

1. Selection Criteria.

1. Innovation.

a. Innovative Technologies—The FHWA will assess innovative approaches to design, materials and construction as well as financing of highway bridges. When making Competitive Highway Bridge Program award decisions, the FHWA will consider any innovative design, material and/or construction approaches proposed by the applicant, particularly projects which incorporate innovative design solutions, utilize new or innovative materials that improve bridge durability or use innovative construction techniques to accelerate project delivery. FHWA will also consider innovative approaches to project financing.

b. Innovative Project Delivery—The FHWA will consider the extent to which the project utilizes innovative practices in contracting, congestion management, asset management, or long-term operations and maintenance. The FHWA also seeks projects that employ innovative approaches to improve the efficiency and effectiveness of the environmental permitting and review to accelerate project delivery and achieve improved outcomes for communities and the environment. The FHWA's objective is to achieve timely and consistent environmental review and permit decisions. Participation in innovative project delivery approaches will not remove any statutory requirements affecting project delivery. While Competitive Highway Bridge Program award recipients are not required to employ innovative approaches, the FHWA encourages applicants to describe innovative project delivery methods for proposed projects.

c. Innovative Financing—The FHWA will assess the extent to which the project incorporates innovations in transportation funding and finance through both traditional and innovative means, including by using private sector funding or financing and recycled revenue from the competitive sale or lease of publicly owned or operated assets.

2. Support for Economic Vitality.

The FHWA will consider the extent to which a project would support economic vitality. To the extent possible, the FHWA will rely on quantitative, data-supported analysis to assess how well a project addresses this criterion, including an assessment of the applicant-supplied benefit-cost analysis described in section D.3.2. In addition to considering the anticipated outcomes of the project that align with these criteria, the FHWA will consider estimates of the project's benefit-cost ratio and net quantifiable benefits.

3. Life-Cycle Costs and State of Good Repair.

As described in section 3.1.d above, the FHWA will consider two areas of information under this criterion:

Bridge Conditions. The FHWA will assess the project's ability to improve bridge conditions and load ratings. The FHWA will consider the project's ability to move a bridge from poor condition to good or fair condition or a project's ability to eliminate load restrictions.

Cost Savings. The FHWA will assess the anticipated cost savings associated with the bundling of bridge projects.

4. Project Readiness.

The FHWA will assess the readiness of the project to proceed to authorization for construction and timely obligation of the Competitive Highway Bridge Program funds before September 30, 2021. The FHWA will assess the schedule provided in the application and ability of the project to clear all activities required under NEPA, status of the project in planning and design, and milestones for project bidding and construction. Due to the timeframe for awarding grants under the Competitive Highway Bridge Program, priority will be given to applications that propose projects for construction as opposed to engineering and design.

2. Review and Selection Process—The FHWA will review all eligible applications received by the date noted on page 1 of this NOFO. The review and selection process will consist of a Technical Review and Senior Review. In the Technical Review, a team composed of technical staff from FHWA will review all eligible applications and rank projects based on how well the projects align with the selection criteria. The Senior Review team, composed of senior leadership from FHWA, including the FHWA Administrator, will determine which projects to recommend to the Office of the Secretary based on the selection criteria. The final funding decisions will be made by the Secretary of Transportation.

3. Additional Information—Prior to award, each selected applicant will be subject to a risk assessment required by 2 CFR 200.205. The FHWA must review and consider any information about the applicant that is in the designated integrity and performance system accessible through SAM, currently the Federal Awardee Performance and Integrity Information System (FAPIIS). An applicant may review information in FAPIIS and comment on any information about itself. The FHWA will consider comments by the applicant in addition to the other information in FAPIIS, in making a judgment about the applicant's integrity, business ethics, and record of performance under Federal awards when completing the review of risk posed by applicants.

VI. Federal Award Administration Information

1. Federal Award Notices—The FHWA will announce awarded projects by posting a list of selected projects at https://www.fhwa.dot.gov/bridge/chbp.cfm. Following the announcement, FHWA will contact the point of contact listed in form SF-42.

2. Administrative and National Policy Requirements—All awards will be administered pursuant to the Uniform Administrative Requirements, Cost Principles and Audit Requirements for Federal Awards found in 2 CFR part 200, as adopted by DOT at 2 CFR 1201. In addition, applicable Federal laws, rules, and regulations of FHWA will apply to the projects that receive program funds, including planning requirements, agreements, Buy America compliance, and other grant program requirements.

3. Reporting—Each recipient of program funding must submit the Federal Financial Report (SF-425) on the financial condition of the project and the project's progress annually, as well as an Annual Budget Review and Program Plan to monitor the use of Federal funds and ensure accountability and financial transparency in the competitive highway bridge program by September 30 of each year. The FHWA reserves the right to request additional information, if necessary, to better understand the status of the project.

4. Reporting Matters Related to Integrity and Performance—If the total value of a selected recipient's currently active grants, cooperative agreements, and procurement contracts from all Federal awarding agencies exceeds $10,000,000 for any period of time during the period of performance of this Federal award, the applicant during that period of time must maintain the information reported to SAM and FAPIIS about civil, criminal, or administrative proceedings described in paragraph 2 of this award term and condition. This is a statutory requirement under Section 872 of Public Law 110-417, as amended (41 U.S.C. 2313). As required by Section 3010 of Public Law 111-212, all information posted in the designated integrity and performance system on or after April 15, 2011, except past performance reviews required for Federal procurement contracts, will be publicly available.

5. Federal Awarding Agency Contact(s)—For further information concerning this notice, please contact the Competitive Highway Bridge Program staff via email at CHBPgrant@dot.gov, or call Douglas Blades at 202-366-4622. A TDD is available for individuals who are deaf or hard of hearing at 202-366-3993. In addition, FHWA will post answers to questions and requests for clarifications on FHWA's website at https://www.fhwa.dot.gov/bridge/chbp.cfm. To ensure applicants receive accurate information about eligibility or the program, the applicant is encouraged to contact FHWA directly, rather than through intermediaries or third parties, with questions. The FHWA staff may also conduct briefings on the Competitive Highway Bridge Program discretionary grants selection and award process upon request.

VIII. Other Information

1. Protection of Confidential Business Information—All information submitted as part of, or in support of, any application shall use publicly available data or data that can be made public and methods that are accepted by industry practice and standards, to the extent possible. If the application includes information the applicant considers to be a trade secret or confidential commercial or financial information, the applicant should do the following:

(1) Note on the front cover that the submission “Contains Confidential Business Information (CBI)”;

(2) mark each affected page “CBI”; and

(3) highlight or otherwise denote the CBI portions.

The FHWA protects such information from disclosure to the extent allowed under applicable law. In the event FHWA receives a Freedom of Information Act (FOIA) request for the information, FHWA will follow DOT procedures described in its FOIA regulations at 49 CFR 7.17. Only information that is ultimately determined to be confidential under that procedure will be exempt from disclosure under the Freedom of Information Act.

Authority: Public Law. 115-141.

Brandye L. Hendrickson,
Deputy Administrator, Federal Highway Administration.

[FR Doc. 2018-19182 Filed 9-4-18; 8:45 am]

BILLING CODE P